ENVIRONMENTAL PROTECTION AGENCY

[EPA-HQ-OPP-2009-0917; FRL-8837-7]

Notice of Receipt of a Pesticide Petition Filed for Residues of Complex Polymeric Polyhydroxy Acids in or on All Food Commodities; Correction and Reopening of Comment Period

AGENCY: Environmental Protection Agency (EPA).

ACTION: Notice; correction and reopening of comment period.

SUMMARY: EPA issued a notice in the Federal Register of January 13, 2010, concerning the Agency’s receipt of an initial filing of a pesticide petition. This document is being issued to correct omissions and to also reopen the comment period for an additional 30 days.

DATES: Comments, identified by docket identification (ID) number EPA-HQ-OPP-2009-0917, must be received on or before September 17, 2010.

ADDRESSES: Follow the detailed instructions as provided under ADDRESSES in the Federal Register document of January 13, 2010.

FOR FURTHER INFORMATION CONTACT: Menyon Adams, Biopesticides and Pollution Prevention Division (7511P), Office of Pesticide Programs, Environmental Protection Agency, 1200 Pennsylvania Ave., NW., Washington, DC 20460-0001; telephone number: (703) 347-8496; e-mail address: adams.menyon@epa.gov.

SUPPLEMENTARY INFORMATION:

I. General Information

A. Does this Action Apply to Me?

The Agency included in the Federal Register notice of January 13, 2010, a list of those who may be potentially affected by this action. If you have questions regarding the applicability of this action to a particular entity, consult the person listed under FOR FURTHER INFORMATION CONTACT.

B. How Can I Get Copies of this Document and Other Related Information?

EPA has established a docket for this action under docket identification (ID) number EPA-HQ-OPP-2009-0917. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

C. Why is the Comment Period Being Reopened?

This document reopens the public comment period for the notice of filing of pesticide petition (PP) 9F7645, from Floratine Biosciences. The notice of filing was published in the Federal Register of January 13, 2010 (75 FR 1773) (FRL-8805-6). EPA is hereby reopening the comment period for 30 additional days because of the correction of several omissions in text of the original printing. The original comment period ended on February 12, 2010; the new comment period ends on September 17, 2010.

To submit comments, or access the docket, please follow the detailed instructions as provided under ADDRESSES in the January 13, 2010 Federal Register document. If you have questions, consult the person listed under FOR FURTHER INFORMATION CONTACT.

II. What Does this Correction Do?

The FR Doc. 2010-490 published in the Federal Register of January 13, 2010 (75 FR 1773) (FRL-8805-6) is corrected as follows:

The phrase “polymeric polyhydroxy acid” is corrected to read “complex polymeric polyhydroxy acids in the following places:

1. On page 1773, third column, in the heading of the document, third line.

2. On page 1773, third column, in the SUMMARY, line six.

3. On page 1775, first column, third full paragraph, lines six and seven.

List of Subjects

Environmental protection, Pesticides and pests.

Dated: August 5, 2010
W. Michael McDavit,
Acting Director, Biopesticides and Pollution Prevention Division, Office of Pesticide Programs.

[FR Doc. 2010-20450 Filed 8-17-10; 8:45 am]

BILLING CODE 6560-50-S